DEPARTMENT OF JUSTICE

Antitrust Division

Notice Pursuant to the National Cooperative Research and Production Act of 1993—ODVA, Inc.

Notice is hereby given that, on April 4, 2024, pursuant to section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, NIRECO CORPORATION, Tokyo, JAPAN; BEIJING JIYUAN AUTOMATION TECHNOLOGY CO., LTD, Beijing, PEOPLE'S REPUBLIC OF CHINA; WERMA Signaltechnik GmbH + CO. KG, Rietheim-Weilheim, GERMANY; ISH Ingenieursozietät GmbH, Kreuztal, North Rhine-Westphalia, GERMANY; WITTENSTEIN cyber motor GmbH, Igersheim, Baden-Württemberg, GERMANY; Elementary Robotics Inc, South Pasadena, CA; Synapticon GmbH, Schönaich, Baden-Würtemberg, GERMANY; Eura Drives Electric Co., Ltd, Yantai, Shandong, PEOPLE'S REPUBLIC OF CHINA; MYUNGBO CABLE, Hwaseong-si, Gyeonggi-do, REPUBLIC OF KOREA; TMSS France, Rueil-Malmaison, Haute de Seine, FRANCE, have been added as parties to this venture.

Also, CMD Corporation, Appleton, WI; Hangzhou Hikrobot Technology Co., Ltd., HangZhou, ZheJiang, PEOPLE'S REPUBLIC OF CHINA; Sanwa Engineering Corp., Hsinchu County, TAIWAN, have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on December 8, 2023. A notice was published in the Federal Register pursuant to section 6(b) of the Act on February 5, 2024 (89 FR 7730).

Suzanne Morris,
Deputy Director Civil Enforcement Operations, Antitrust Division.

[FR Doc. 2024-13619 Filed 6-20-24; 8:45 am]

BILLING CODE P